DEPARTMENT OF LABOR

Employee Benefits Security Administration

Proposed Extension of Information Collection Request Submitted for Public Comment; Furnishing Documents to the Secretary of Labor on Request Under ERISA Section 104(a)(6)

ACTION: Notice.

SUMMARY: In accordance with the Paperwork Reduction Act of 1995 (PRA 95) (44 U.S.C. 3506(c)(2)(A)), the Department of Labor (the Department) conducts a preclearance consultation program so that the general public and other federal agencies can comment on proposed and continuing collections of information. This program helps to ensure that the data the Department gathers arrive in the desired format, that the reporting burden on the public (time and financial resources) is minimized, that the public understands the collection instruments, and that the Department can accurately assess the impact of collection requirements on respondents.

By this notice, the Department is soliciting comments on the information collection provisions of regulations pertaining to section 104(a)(6) of the Employee Retirement Income Security Act of 1974, as amended (ERISA). The statute and the regulatory provisions codified at 29 CFR 2520.104a-8 require the administrator of an employee benefit plan subject to Part 1 of Title I of ERISA to furnish the Secretary of Labor with certain documents relating to the plan upon request. A copy of the information collection request (ICR) can be obtained by contacting the office shown in the ADDRESSES section of this notice. ICRs submitted to OMB also are available at http://www.RegInfo.gov.

DATES: Written comments must be submitted to the office shown in the addresses section on or before October 14, 2008.

ADDRESSES: Interested parties are invited to submit written comments regarding the information collection request and burden estimates to: Gerald B. Lindrew, Office of Policy and Research, U.S. Department of Labor, Employee Benefits Security Administration, 200 Constitution Avenue, NW., Room N-5647, Washington, DC 20210. Telephone: (202) 693-8410; Fax: (202) 219-4745. These are not toll-free numbers.

SUPPLEMENTARY INFORMATION:

I. Background

Pursuant to section 101(a)(6) of ERISA, the administrator of any employee benefit plan subject to Part 1 of Title I of ERISA is required to furnish to the Secretary of Labor, on request, any documents related to the employee benefit plan including but not limited to, the latest SPD (including any summaries of plan changes not contained in the SPD), and the bargaining agreement, trust agreement, contract, or other instrument under which the plan is established or operated. The Department issued a final implementing regulation under this provision on January 7, 2002 (67 FR 777), which is codified at 29 CFR 2520.104a-8. The ICR relating to the regulation was approved following publication of a notice of proposed rulemaking on August 5, 1999 (64 FR 42797). The ICR is scheduled to expire on December 31, 2008.

II. Desired Focus of Comments

The Department is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected;

• Minimize the burden of the collection of information on those who are to respond, including through the use of appropriate automated, electronic, mechanical, or other technological collection techniques or other forms of information technology, e.g., permitting electronic submission of responses.

III. Current Actions

The Employee Benefits Security Administration is requesting an extension of the currently approved ICR for the Furnishing Documents to the Secretary of Labor under ERISA section 104(a)(6) and 29 CFR 2520.104a-8. The Department is not proposing or implementing changes to the regulation or to the existing ICR. A summary of the ICR and the current burden estimates follows:

Type of Review: Extension of a currently approved collection.

Agency: Department of Labor, Employee Benefits Security Administration.

Title: Furnishing Documents to the Secretary of Labor on Request under ERISA.

OMB Number: 1210-0112.

Frequency: On occasion.

Affected Public: Individuals or households; business or other for-profit institutions; not-for-profit institutions.

Total Respondents: 1,000.

Total Responses: 1,000.

Estimated Total Burden Hours: 95.

Estimated Annual Burden Cost: $4,000.

Comments submitted in response to this notice will be summarized and/or included in the request for OMB approval of the ICR. They will also become a matter of public record.

Dated: August 7, 2008.
Joseph S. Piacentini,
Director, Office of Policy and Research, Employee Benefits Security Administration.

[FR Doc. E8-18632 Filed 8-12-08; 8:45 am]

BILLING CODE 4510-29-P